DEPARTMENT OF STATE

[Public Notice 4937]

Designation of the Libyan Islamic Fighting Group Also Known as LIFG as a Foreign Terrorist Organization Pursuant to Section 219 of the Immigration and Nationality Act, as Amended

Based upon a review of the Administrative Record assembled in this matter, and in consultation with the Attorney General and the Secretary of the Treasury, the Deputy Secretary of State has concluded that there is a sufficient factual basis to find that the relevant circumstances described in Section 219 of the Immigration and Nationality Act, as amended (hereinafter “INA”), 8 U.S.C. 1189, exist with respect to the Libyan Islamic Fighting Group. The Libyan Islamic Fighting Group is also known as LIFG.

Therefore, the Deputy Secretary of State hereby designates that organization as a Foreign Terrorist Organization pursuant to Section 219(a) of the INA.

Dated: December 15, 2004.
William P. Pope,
Acting Coordinator for Counterterrorism, Department of State.

[FR Doc. 04-27800 Filed 12-16-04; 5:00 pm]

BILLING CODE 4710-10-P